FEDERAL EMERGENCY MANAGEMENT AGENCY

44 CFR Part 65

[Docket No. FEMA-P-7610]

Changes in Flood Elevation Determinations

AGENCY: Federal Emergency Management Agency, (FEMA).

ACTION: Interim rule.

SUMMARY: This interim rule lists communities where modification of the Base (1-percent-annual-chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for the listed communities.

From the date of the second publication of these changes in a newspaper of local circulation, any person has ninety (90) days in which to request through the community that the Acting Administrator for Federal Insurance and Mitigation Administration reconsider the changes. The modified BFEs may be changed during the 90-day period.

ADDRESSES: The modified BFEs for each community are available for inspection at the office of the Chief Executive Officer of each community. The respective addresses are listed in the table below.

FOR FURTHER INFORMATION CONTACT: Matthew B. Miller, P.E., Chief, Hazards Study Branch, Federal Insurance and Mitigation Administration, 500 C Street, SW., Washington, DC 20472, (202) 646-3461 or (e-mail) matt.miller@fema.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act. This rule is categorically excluded from the requirements of 44 CFR Part 10, Environmental Consideration. No environmental impact assessment has been prepared.

Regulatory Flexibility Act. The Acting Administrator for Federal Insurance and Mitigation Administration certifies that this rule is exempt from the requirements of the Regulatory Flexibility Act because modified BFEs are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR Part 65 is amended as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
Arkansas: Cleburne | Unincorporated Areas | April 3, 2002, April 10, 2002, The Sun Times | The Honorable Claude Dill, Judge, Cleburne County, County Courthouse, 301 West Main Street, Heber Springs, Arkansas 72543 | March 12, 2002 | 050424
Illinois: Cook | Unincorporated Areas | March 20, 2002, March 27, 2002, The Chicago Tribune | Mr. John H. Stroger, Jr., President, Cook County Board of Commissioners, 118 North Clark Street, Room 537, Chicago, Illinois 60602 | June 26, 2002 | 170054
Illinois: Cook | Unincorporated Areas | January 17, 2002, January 24, 2002, Northbrook Star | Mr. John H. Stroger, Jr., President, Cook County Board of Commissioners, 118 North Clark Street, Room 537, Northbrook, Illinois 60602 | December 20, 2001 | 170054
Illinois: St. Clair | City of Belleville | January 8, 2002, January 15, 2002, Belleville News-Democrat | The Honorable Mark A. Kern, Mayor, City of Belleville, 101 South Illinois Street, Belleville, Illinois 62220 | April 16, 2002 | 170618
Illinois: Cook | City of Northbrook | January 17, 2002, January 24, 2002, Northbrook Star | Mr. Mark W. Damisch, President, Village of Northbrook, 1225 Cedar Lane Northbrook, Illinois 60062-4582 | December 20, 2001 | 170132
Illinois: Cook | City of Oak Forest | March 20, 2002, March 27, 2002, The Chicago Tribune | The Honorable Patrick M. Gordon, Mayor, City of Oak Forest, 15440 South Central Avenue, Oak Forest, Illinois 60452 | June 26, 2002 | 170136
Illinois: Will | Village of Plainfield | February 20, 2002, February 27, 2002, The Enterprise | Mr. Richard Rock, President, Village of Plainfield, 530 West Lockport Street, Suite 206, Plainfield, Illinois 60544 | May 29, 2002 | 170771
Indiana: Dearborn | Town of Greendale | February 7, 2002, February 14, 2002, The Dearborn County Register | The Honorable Doug Hedrick, Mayor, Town of Greendale, 510 Ridge Avenue, Greendale, Indiana 47025 | January 9, 2002 | 180040
Indiana: Johnson | City of Greenwood | April 3, 2002, April 10, 2002, Greenwood and Southside Challenger | The Hon. Charles E. Henderson, Mayor, City of Greenwood, 2 North Madison Avenue, Greenwood, Indiana 46142 | April 22, 2002 | 180115
Indiana: Dearborn | City of Lawrenceburg | February 7, 2002, February 14, 2002, The Dearborn County Register | The Honorable Paul E. Tremain, Mayor, City of Lawrenceburg, 450 Main Street, Lawrenceburg, Indiana 47025 | January 9, 2002 | 180041
Michigan: Oakland | Village of Lake Orion | April 3, 2002, April 10, 2002, The Lake Orion Review | Ms. JoAnn Van Tassel, Manager, Village of Lake Orion, 37 East Flint Street, Lake Orion, Michigan 48362 | April 5, 2002 | 260588
Michigan: Macomb | City of Warren | March 22, 2002, March 29, 2002, The Macomb Daily | The Hon Mark A. Steenbergh, Mayor, City of Warren, Warren Municipal Building, 29500 Van Dyke Avenue, Warren, Michigan 48093 | June 28, 2002 | 260129
Michigan: Macomb | Township of Washington | February 8, 2002, February 15, 2002, The Macomb Daily | Mr. Gary Kirsh, Supervisor, Township of Washington, P.O. Box 94067, Washington, Michigan 48094 | December 21, 2001 | 260447
Minnesota: Anoka | City of Coon Rapids | February 15, 2002, February 22, 2002, The Herald | The Honorable Ilona McCauley, Mayor, City of Coon Rapids, 11155 Robinson Drive, Coon Rapids, Minnesota 55433 | January 22, 2002 | 270011
Minnesota: Rice | City of Dundas | January 23, 2002, January 30, 2002, Northfield News | The Honorable Myron Malecha, Mayor, City of Dundas, 216 Railway Street North, Dundas, Minnesota 55109-4013 | May 1, 2002 | 270403
Missouri: St. Louis | City of Ladue | April 19, 2002, April 26, 2002, St. Louis Post Dispatch | The Honorable Jean Quenlen, Mayor, City of Ladue, 9345 Clayton Road, Ladue, Missouri 63124-1511 | April 2, 2002 | 290363
Missouri: Ste. Genevieve | City of Ste., Ste. Genevieve | February 20, 2002, February 27, 2002, Ste. Genevieve Herald | The Honorable Kathleen Waltz, Mayor, City of Ste. Genevieve, 165 South Fourth Street, Ste. Genevieve, Missouri 63670 | February 8, 2002 | 290325
Missouri: Ste. Genevieve | Unincorporated Areas | February 20, 2002, February 27, 2002, Ste. Genevieve Herald | Mr. Dennis Huck, County Commissioner, Ste. Genevieve County, 165 South Fourth Street, Ste. Genevieve, Missouri 63670 | February 8, 2002 | 290833
New Mexico: Bernalillo | City of Albuquerque | February 21, 2002, February 28, 2002, Albuquerque Journal | Mr. Tom Rutherford, Chairman, Bernalillo County, 2400 Broadway, S.E., Albuquerque, New Mexico 87102 | January 29, 2002 | 350001
Ohio: Lorain | City of Avon | March 22, 2002, March 29, 2002, The Morning Journal | The Honorable James A. Smith, Mayor, City of Avon, 36080 Chester Road, Avon, Ohio 44011 | June 28, 2002 | 390348
Ohio: Montgomery | City of Centerville | March 15, 2002, March 22, 2002, Dayton Daily News | The Honorable Sally D. Beals, Mayor, City of Centerville, 7875 Stonehouse Court, Centerville, Ohio 45459 | June 21, 2002 | 390408
Ohio: Delaware | Unincorporated Areas | March 6, 2002, March 13, 2002, Westerville News and Public Opinion | Mr. James Ward, President, Delaware County, Board of Commissioners, 101 North Sandusky Street, Delaware, Ohio 43015 | June 12, 2002 | 390146
Ohio: Franklin | Unincorporated Areas | March 6, 2002, March 13, 2002, Westerville News and Public Opinion | Mr. Dewey R. Stokes, President, Franklin County, Board of Commissioners, 373 South High Street, 26th Floor, Columbus, Ohio 43215 | June 12, 2002 | 390167
Ohio: Franklin | City of Grove City | April 17, 2002, April 24, 2002, Suburban News Publication | The Hon. Cheryl L. Grossman, Mayor, City of Grove City, P.O. Box 427, Grove City, Ohio 43123 | July 24, 2002 | 390173
Ohio: Lucas | Unincorporated Areas | February 19, 2002, February 26, 2002 Farmland News | Ms. Sandy Isenberg, President, Lucas County, Board of Commissioners, One Government Center, Suite 800, Toledo, Ohio 43604 | May 28, 2002 | 390359
Ohio: Franklin and Delaware | City of Westerville | March 6, 2002, March 13, 2002, Westerville News and Public Opinion | The Honorable Stewart Flaherty, Mayor, City of Westerville, 21 South State Street, Westerville, Ohio 43081 | June 12, 2002 | 390179
Ohio: Franklin and Delaware | City of Westerville | April 10, 2002, April 17, 2002 Westerville News and Public Opinion | The Honorable Stewart Flaherty, Mayor, City of Westerville, 21 South State Street, Westerville, Texas 43081 | March 8, 2002 | 390179
Oklahoma: Oklahoma | Unincorporated Areas | March 22, 2002, March 29, 2002, The Edmond Sun | The Honorable Saundra Naifeh, Mayor, City of Edmond, P.O. Box 2970, Edmond, Oklahoma 73083 | February 28, 2002 | 400252
Oklahoma: Tulsa | Unincorporated Areas | March 7, 2002, March 14, 2002, Tulsa World | The Honorable Wilbert E. Collins, Chairman, Board of Commissioners, 500 South Denver, Tulsa, Oklahoma 74103 | June 13, 2002 | 400462
Texas: Tarrant | City of Arlington | April 10, 2002, April 17, 2002, The Arlington Morning News | The Honorable Elzie Odom, Mayor, City of Arlington, 101 West Abram Street, Arlington, Texas 76004-0231 | July 16, 2002 | 485454
Texas: Travis | City of Austin | March 5, 2002, March 12, 2002, Austin American Statesman | The Honorable Kirk P. Watson, Mayor, City of Austin, 124 West 8th Street, Austin, Texas 78701 | January 18, 2002 | 480624
Texas: Travis | City of Austin | April 30, 2002, May 7, 2002, Austin American Statesman | The Honorable Kirk P. Watson, Mayor, City of Austin, 124 West 8th Street, Austin, Texas 78701 | August 6, 2002 | 480624
Texas: Bexar | Unincorporated Areas | January 17, 2002, January 24, 2002, San Antonio Express News | The Honorable Cyndi T. Krier, Judge, Bexar County, 100 Dolorosa, Suite 101, San Antonio, Texas 78205-3035 | April 25, 2002 | 480035
Texas: Bexar | Unincorporated Areas | February 21, 2002, February 28, 2002, San Antonio Express News | The Honorable Nelson W. Wolff, Judge, Bexar County, 100 Dolorosa, Suite 101, San Antonio, Texas 78205-3035 | May 30, 2002 | 480035
Texas: Johnson | City of Burleson | February 20, 2002, February 27, 2002, The Burleson Star | The Honorable Byron Black, Mayor, City of Burleson, 141 West Renfro, Burleson, Texas 76028 | May 29, 2002 | 485459
Texas: Comal | Unincorporated Areas | November 16, 2001, November 23, 2001, New Braunfels Herald-Zeitung | The Honorable Danny Scheel, Judge, Comal County, 150 North Seguin Street, New Braunfels, Texas 78130 | February 22, 2002 | 485463
Texas: Montgomery | City of Conroe | February 19, 2002, February 26, 2002, The Courier | The Honorable Carter Moore, Mayor, City of Conroe, P.O. Box 3066, Conroe, Texas 77305 | May 28, 2002 | 480484
Texas: Denton | Town of Corinth | April 3, 2002, April 10, 2002, Lake Cities Sun Paper | The Hon. Shirley Spellerberg, Mayor, Town of Corinth, 2003 South Corinth, Corinth, Texas 76205 | July 10, 2002 | 481143
Texas: Dallas | City of Dallas | January 24, 2002, January 31, 2002, Dallas Morning News | The Honorable Ron Kirk, Mayor, City of Dallas, 1500 Marilla Street, City Hall, Dallas, Texas 75201 | May 1, 2002 | 480171
Texas: Tarrant | City of Fort Worth | March 20, 2002, March 27, 2002, Fort Worth Star-Telegram | The Honorable Kenneth Barr, Mayor, City of Fort Worth, 1000 Throckmorton Street, Fort Worth, Texas 76102-6311 | June 26, 2002 | 480569
Texas: Tarrant | City of Fort Worth | April 3, 2002, April 10, 2002, Fort Worth Star-Telegram | The Honorable Kenneth Barr, Mayor, City of Fort Worth, 1000 Throckmorton Street, Fort Worth, Texas 76102-6311 | July 10, 2002 | 480596
Texas: Dallas | City of Garland | March 7, 2002, March 14, 2002, Garland Morning News | The Honorable Jim Spence, Mayor, City of Garland, 200 North 5th Street, P.O. Box 469002, Garland, Texas 76046-9002 | June 13, 2002 | 485471
Texas: Harris | City of Houston | January 10, 2002, January 17, 2002, Houston Chronicle | The Honorable Lee P. Brown, Mayor, City of Houston, P.O. Box 1562 Houston, Texas 77251 | April 18, 2002 | 480296
Texas: Williamson | City of Hutto | February 21, 2002, February 28, 2002, Hutto Herald | The Honorable Glen Pierce, Mayor, City of Hutto, P.O. Box 280, Hutto, Texas 78634 | May 30, 2002 | 481047
Texas: Dallas | City of Irving | April 4, 2002, April 11, 2002 The Irving Morning News | The Honorable Joe H. Putnam, Mayor, City of Irving, P.O. Box 152288, Irving, TX 75015-2288 | March 8, 2002 | 480180
Texas: Midland | City of Midland | May 2, 2002, May 9, 2002, Midland Reporter-Telegram | The Honorable Michael J. Canon, Mayor, City of Midland, City Hall, 300 N. Loraine, Midland, Texas 79701 | August 8. 2002 | 480477
Texas: Montgomery | Unincorporated Areas | March 6, 2002, March 13, 2002, The Courier | The Honorable Alan B. Sadler, Judge, Montgomery County, 301 North Thompson Street, Suite 201, Conroe, Texas 77301 | June 12, 2002 | 480483
Texas: Montgomery | Unincorporated Areas | March 20, 2002, March 27, 2002, The Courier | The Honorable Alan B. Sadler, Judge, Montgomery County, 301 North Thompson Street, Suite 210, Conroe, Texas 77301 | February 26, 2002 | 480483
Texas: Montgomery | Unincorporated Areas | March 21, 2002, March 28, 2002, The Courier | The Honorable Alan B. Sadler, Judge, Montgomery County, 301 North Thompson Street, Suite 210, Conroe, Texas 77301 | March 1, 2002 | 480483
Texas: Tarrant | City of North Richland Hills | January 8, 2002, January 15, 2002, Fort Worth Star-Telegram | The Honorable Charles Scoma, Mayor, City of North Richland Hills, P.O. Box 820609, North Richland Hills, Texas 76182 | December 19, 2001 | 480607
Texas: Tarrant | City of North Richland Hills | March 4, 2002, March 11, 2002, Fort Worth Star-Telegram | The Honorable Charles Scoma, Mayor, City of North Richland Hills, P.O. Box 820609, North Richland Hills, Texas 76182 | January 23, 2002 | 480607
Texas: Montgomery | City of Oak Ridge North | March 6, 2002, March 13, 2002, The Courier | The Honorable Joe Michels, Mayor, City of Oak Ridge North, City Hall, 27424 Robinson Road, Oak Ridge North, TX 77385 | June 12, 2002 | 481560
Texas: Collin | City of Plano | February 20, 2002, February 27, 2002, Plano Star Courier | The Honorable Jeran Akers, Mayor, City of Plano, P.O. Box 860358, Plano, Texas 75086-0358 | May 29, 2002 | 480140
Texas: Rockwall | City of Rockwall | March 22, 2002, March 29, 2002, The Rockwall/Rowlett Morning News | The Honorable Scott Self, Mayor, City of Rockwall, 205 West Rusk, Rockwall, TX 75087 | March 1, 2002 | 480547
Texas: Tarrant | Unincorporated Areas | April 3, 2002, April 10, 2002, Fort Worth Star-Telegram | The Honorable Tom Vandergriff, Judge, Tarrant County, 100 East Weatherford Street, Fort Worth, Texas 76196-0101 | July 10, 2002 | 480582
Texas: Travis | Unincorporated Areas | March 6, 2002, March 13, 2002, Austin American-Statesman | The Honorable Samuel T. Briscoe, Judge, Travis County, P.O. Box 1748, Austin, Texas 78767-1748 | June 12, 2002 | 481026
Texas: Collin | City of Wylie | March 20, 2002, March 27, 2002, Wylie News | The Honorable John Mondy, Mayor, City of Wylie, 2000 State Highway 78 North, Wylie, TX 75098 | March 1, 2002 | 480759

(Catalog of Federal Domestic Assistance No. 83.100, “Flood Insurance.”)

Dated: May 14, 2002.
Robert F. Shea,
Acting Administrator, Federal Insurance and Mitigation Administration.

[FR Doc. 02-12655 Filed 5-20-02; 8:45 am]

BILLING CODE 6718-04-P